DEPARTMENT OF ENERGY

Federal Energy Regulatory Commission

[Docket No. RP04-12-005]

Florida Gas Transmission Company; Notice of Compliance Filing

May 26, 2004.

Take notice that on May 20, 2004, Florida Gas Transmission Company (FGT) tendered for filing to become part of its FERC Gas Tariff, Third Revised Volume No. 1, the following tariff sheets, to become effective November 1, 2003:

Second Substitute Third Revised Sheet No. 14

Second Revised Sheet No. 15

Second Substitute First Revised Sheet No. 22H

Second Revised Sheet No. 22I

Second Substitute Fourth Revised Sheet No. 59

Third Revised Sheet No. 60

FGT states that the referenced tariff sheets are being filed in compliance with the Commission's Order on Rehearing, Clarification, Compliance Filing and Technical Conference, issued April 20, 2004, in which the Commission directed FGT to file tariff revisions to provide for partial reservation charge credits only in force majeure situations and, in instances of full reservation charge credits, that reservation fixed cost surcharges shall be included.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1245 Filed 6-3-04; 8:45 am]

BILLING CODE 6717-01-P